DEPARTMENT OF COMMERCE

National Oceanic and Atmospheric Administration

50 CFR Part 635

[I.D. 102299B]

Atlantic Highly Migratory Species; Swordfish Quota Adjustment

AGENCY: National Marine Fisheries Service (NMFS), National Oceanic and Atmospheric Administration (NOAA), Commerce.

ACTION: Adjustment of annual catch quotas.

SUMMARY: NMFS adjusts the June 1, 1999, through May 31, 2000, directed category quota for North Atlantic swordfish to account for underharvest from the prior fishing year. The directed category annual quota is adjusted to 2,427.38 metric tons dressed weight (mt dw). The 1999-2000 season for North Atlantic swordfish incidental catch category quota remains at 300 mt dw. The annual directed catch category quota for the South Atlantic swordfish fishery remains at 289 mt dw. This action is required under management measures adopted in the Fishery Management Plan for Atlantic Tunas, Swordfish, and Sharks (HMS FMP), and is consistent with the criteria for swordfish quota transfers established at 50 CFR part 635.

DATES: Effective March 21, 2000.

FOR FURTHER INFORMATION CONTACT: Steve Meyers or Jill Stevenson at 301-713-2347; Fax: 301-713-1917.

SUPPLEMENTARY INFORMATION: Analysis of reported landings for the directed North Atlantic swordfish fishery, the North Atlantic incidental swordfish fishery, and the South Atlantic directed swordfish fishery indicate that the quotas for those fisheries were not exceeded during the 1998 fishing year (June 1, 1998, through May 31, 1999). Under 50 CFR 635.27(c)(3)(ii), if total landings are above or below the specific North Atlantic swordfish annual quotas, they must be subtracted from, or added to, the following year's quota for that management area, provided quota modifications are consistent with applicable International Commission for the Conservation of Atlantic Tunas (ICCAT) recommendations. Further, any carryover adjustments to the 12-month directed catch quota for the North Atlantic swordfish fishery must to be apportioned equally between the two semiannual periods. Under 50 CFR 635.27(c)(2)(ii), incidental catch for North Atlantic swordfish may be reallocated to the directed catch quota if not expected to be taken in the incidental fishery before the end of the fishing year.

There is no ICCAT recommendation to modify the South Atlantic swordfish quota based on over or under harvests in prior years. Therefore, the annual quota for South Atlantic swordfish remains at the current quota level of 289 mt dw. There is no incidental catch quota in the South Atlantic swordfish fishery.

Adjusted Catch Quotas

The adjusted annual directed fishery quota for North Atlantic swordfish for the 1998 fishing year was 2,392.3 mt dw. The adjusted quota for incidental harvests of North Atlantic swordfish for the 1998 fishing year was 314.6 mt dw (64 FR 4059, January 27, 1999).

The initial annual directed fishery quota for North Atlantic swordfish for the 1999 fishing year (June 1, 1999, through May 31, 2000) was previously established at 2033.2 mt dw and is divided into two equal semiannual quotas of 1016.6 mt dw, one for June 1 through November 30, 1999, and the other for December 1, 1999, through May 31 of 2000 (63 FR 31710, June 10, 1998). The initial catch quota for incidental harvests of North Atlantic swordfish for the 1999 fishing year is 300 mt dw.

The harvest of North Atlantic swordfish in the directed catch category for the 1998 fishing year is estimated to be 2,308.3 mt dw, or 84.0 mt dw below the directed catch quota of 2,392.3 mt dw. Additionally, the harvest of North Atlantic swordfish in the incidental catch category for the 1998 fishing year was 4.4 mt dw, or 310.2 mt dw below the incidental catch quota of 314.6 mt dw.

The 84.0 mt dw underage from the directed catch quota and the 310.2 mt dw underage from the incidental catch quota for the 1998 fishing year are added to the directed catch quota for the 1999 fishing year, for a revised North Atlantic swordfish directed catch quota of 2,427.4 mt dw. This adjusted annual quota is divided into 2 equal semiannual catch quotas of 1,213.7 mt dw, one for June 1, 1999, through November 30, 1999, and the other for December 1, 1999, through May 31, 2000. NMFS is currently examining landings reports from the first semi-annual period to determine if adjustments to the second period are required. Projections based on preliminary data from June 1, 1999, through January 31, 2000, suggest that a closure of the directed swordfish fishery prior to May 31, 2000, given the adjusted annual directed swordfish quota, will not be needed.

The incidental catch quota remains at 300 mt dw for the 1999 fishing year.

Under the swordfish limited access program established under the 1999 HMS FMP and implemented at 50 CFR 635.16, NMFS has issued incidental catch permits, and all catch by vessels so permitted will now be applied to the incidental catch quota. Thus, it is premature to consider reallocation of the incidental catch quota until NMFS examines logbooks of vessels with incidental catch permits.

Classification

This action is taken under 50 CFR 635.27(c). This action is exempt from review under E.O. 12866.

Authority: 16 U.S.C. 971 et seq. and 1801 et seq.

Dated: March 20, 2000.
Bruce C. Morehead,
Acting Director, Office of Sustainable Fisheries, National Marine Fisheries Service.

[FR Doc. 00-7322 Filed 3-21-00; 3:50 pm]

BILLING CODE 3510-22-F